DEPARTMENT OF TRANSPORTATION

Federal Aviation Administration

14 CFR Part 39

[Docket No. 99-NM-07-AD]

RIN 2120-AA64

Airworthiness Directives; Airbus Model A300, A310, and A300-600 Series Airplanes

AGENCY: Federal Aviation Administration, DOT.

ACTION: Notice of proposed rulemaking (NPRM).

SUMMARY: This document proposes the supersedure of an existing airworthiness directive (AD), applicable to certain Airbus Model A300, A310, and A300-600 series airplanes, that currently requires a one-time operational test of the fire shut-off valves (FSOV) to determine if the FSOV's are functioning correctly, and replacement of failed parts with new or serviceable parts. This action would require repetitive performance of the operational test. This action would also limit the applicability to airplanes installed with certain FSOV's. This proposal is prompted by issuance of mandatory continuing airworthiness information by a foreign civil airworthiness authority. The actions specified by the proposed AD are intended to detect and correct failure of the FSOV's to close, which could result in failure of the engine fire shut-off system, and consequent inability to extinguish an engine fire.

DATES: Comments must be received by March 13, 2000.

ADDRESSES: Submit comments in triplicate to the Federal Aviation Administration (FAA), Transport Airplane Directorate, ANM-114, Attention: Rules Docket No. 99-NM-07-AD, 1601 Lind Avenue, SW., Renton, Washington 98055-4056. Comments may be inspected at this location between 9:00 a.m. and 3:00 p.m., Monday through Friday, except Federal holidays.

The service information referenced in this AD may be obtained from Airbus Industrie, 1 Rond Point Maurice Bellonte, 31707 Blagnac Cedex, France. This information may be examined at the FAA, Transport Airplane Directorate, 1601 Lind Avenue, SW., Renton, Washington.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this notice may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this notice must submit a self-addressed, stamped postcard on which the following statement is made: “Comments to Docket Number 99-NM-07-AD.” The postcard will be date stamped and returned to the commenter.

Availability of NPRMs

Any person may obtain a copy of this NPRM by submitting a request to the FAA, Transport Airplane Directorate, ANM-114, Attention: Rules Docket No. 99-NM-07-AD, 1601 Lind Avenue, SW., Renton, Washington 98055-4056.

Discussion

On July 24, 1998, the FAA issued AD 98-16-09, amendment 39-10685 (63 FR 40811, July 31, 1998), applicable to certain Airbus Model A300, A310, and A300-600 series airplanes, to require a one-time operational test of the fire shut-off valves (FSOV) to determine if the FSOV's are functioning correctly, and replacement of failed parts with new or serviceable parts. That action was prompted by issuance of mandatory continuing airworthiness information by a foreign civil airworthiness authority. The requirements of that AD are intended to detect and correct failure of the FSOV's to close, which could result in failure of the engine fire shut-off system, and consequent inability to extinguish an engine fire.

Actions Since Issuance of Previous Rule

Since the issuance of AD 98-16-09, the Direction Générale de l'Aviation Civile (DGAC), which is the airworthiness authority for France, notified the FAA that the unsafe condition identified in that AD may continue to exist for certain affected airplanes despite compliance with the one-time requirements of that AD. Based on the results of the one-time operational test of the FSOV's, the manufacturer has determined that certain FSOV's, identified by part number series, have a high failure rate. Because of the high failure rate of those FSOV's, the manufacturer has recommended, and the DGAC has mandated, that the operational test be repetitively performed on airplanes equipped with those FSOV's.

Explanation of Relevant Service Information

Airbus issued A300/A310/A300-600 All Operator Telex (AOT) 29-22, dated November 24, 1997, which was referenced and described in AD 98-16-09 as the appropriate source of service information for accomplishment of the actions of that AD. Accomplishment of the actions specified in the AOT is intended to adequately address the identified unsafe condition. The DGAC issued French airworthiness directive 98-356-259(B), dated September 9, 1998, to mandate repetitive performance of the operational test on airplanes incorporating certain FSOV's determined to have a high failure rate in order to ensure the continued airworthiness of these airplanes in France.

FAA's Conclusions

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Proposed Rule

Since an unsafe condition has been identified that is likely to exist or develop on other airplanes of the same type design registered in the United States, the proposed AD would supersede AD 98-16-09 to require repetitive accomplishment of the actions specified in the AOT described previously. This proposed AD would also limit the applicability to airplanes installed with certain FSOV's identified to have a high failure rate.

Cost Impact

There are approximately 103 airplanes of U.S. registry that would be affected by this proposed AD.

The operational test that is currently required by AD 98-16-09, and retained in this AD, takes approximately 1 work hour per airplane to accomplish, at an average labor rate of $60 per work hour. Based on these figures, the cost impact of the currently required test on U.S. operators is estimated to be $60 per airplane, per test cycle.

The cost impact figure discussed above is based on assumptions that no operator has yet accomplished any of the current or proposed requirements of this AD action, and that no operator would accomplish those actions in the future if this AD were not adopted.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-10685 (63 FR 40811, July 31, 1998), and by adding a new airworthiness directive (AD), to read as follows:

Airbus Industrie: Docket 99-NM-07-AD. Supersedes AD 98-16-09, Amendment 39-10685.

Applicability: Model A300, A310, and A300-600 series airplanes; on which any fire shut-off valve (FSOV) having part number (P/N) B38LC50XX (where XX is 05, 06, 07, 08, 09, or 10) is installed; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To detect and correct failure of the FSOV's to close, which could result in failure of the engine fire shut-off system, and consequent inability to extinguish an engine fire, accomplish the following:

Repetitive Operational Tests

(a) Within 600 flight hours after the effective date of this AD, perform an operational test of the 4 FSOV's on the airplane, in accordance with Airbus All Operator Telex (AOT) 29-22, dated November 24, 1997. If any FSOV fails the test, prior to further flight, replace the FSOV with a new or serviceable FSOV, in accordance with the AOT. Repeat the operational test thereafter at intervals not to exceed 600 flight hours.

Spares

(b) As of the effective date of this AD, no person shall install an FSOV, part number (P/N) B38LC50XX (where XX is 05, 06, 07, 08, 09, or 10), on any airplane, unless a successful operational test has been performed in accordance with the requirements of this AD.

Alternative Methods of Compliance

(c) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 2: Information concerning the existence of approved alternative methods of compliance with this AD, if any, may be obtained from the International Branch, ANM-116.

Special Flight Permits

(d) Special flight permits may be issued in accordance with sections 21.197 and 21.199 of the Federal Aviation Regulations (14 CFR 21.197 and 21.199) to operate the airplane to a location where the requirements of this AD can be accomplished.

Note 3: The subject of this AD is addressed in French airworthiness directive 98-356-259(B), dated September 9, 1998.

Issued in Renton, Washington, on February 3, 2000.
Charles Huber,
Acting Manager, Transport Airplane Directorate, Aircraft Certification Service.

[FR Doc. 00-2987 Filed 2-9-00; 8:45 am]

BILLING CODE 4910-13-U